DEPARTMENT OF HOMELAND SECURITY

U.S. Coast Guard

[Docket No. USCG-2018-0050]

Towing Safety Advisory Committee

AGENCY: U.S. Coast Guard, Department of Homeland Security.

ACTION: Notice of Federal Advisory Committee meeting.

SUMMARY: The Towing Safety Advisory Committee and its subcommittees will meet in Charleston, South Carolina to review and discuss recommendations from its subcommittees and to receive briefs on items listed in the agenda. All meetings will be open to the public.

DATES: Meetings. The subcommittees of the Towing Safety Advisory Committee will meet on Tuesday, March 20, 2018 from 8 a.m. to 5 p.m. to conduct work-group sessions. The full Committee will meet on Wednesday, March 21, 2018, from 8 a.m. to 5 p.m. These meetings may end early if the subcommittees or the Committee has completed its business, or the meetings may be extended based on the number of public comments.

Comments and supporting documentation. To ensure your comments are reviewed by Committee members comment before the meetings, submit your written comments no later than March 6, 2018.

ADDRESSES: All meetings will be held at the Charleston Marriott 170 Lockwood Boulevard, Charleston, South Carolina 29403; http://www.marriott.com/hotels/travel/chsmc-charleston-marriott/.

For information on facilities or services for individuals with disabilities, or to request special assistance at the meetings, contact the individuals listed in the FOR FURTHER INFORMATION CONTACT section as soon as possible.

Written comments must be submitted using the Federal eRulemaking Portal at http://www.regulations.gov. If you encounter technical difficulties with comment submission, contact the individuals listed in the FOR FURTHER INFORMATION CONTACT section below.

Instructions: You are free to submit comments at any time, including orally at the meetings, but if you want Committee members to review your comment before the meetings, please submit your comments no later than March 6, 2018. We are particularly interested in comments on the issues in the “Agenda” section below. You must include “Department of Homeland Security” and the docket number USCG-2018-0050. Comments received will be posted without alteration at http://www.regulations.gov, including any personal information provided. For more about privacy and the docket, review the Privacy and Security Notice for the Federal Docket Management System at https://www.regulations.gov/privacyNotice.

Docket Search: For access to the docket or to read documents or comments related to this notice, go to http://www.regulations.gov, insert USCG-2018-0050 in the Search box, press Enter, and then click on the item you wish to view.

FOR FURTHER INFORMATION CONTACT: Commander Jose Perez, Designated Federal Officer of the Towing Safety Advisory Committee, Commandant (CG-OES-2), U.S. Coast Guard, 2703 Martin Luther King Jr. Avenue SE, Stop 7509, Washington, DC 20593-7509; telephone 202-372-1410, fax 202-372-8382 or email jose.a.perez3@uscg.mil, or Mr. Kenneth Doyle, telephone 202-372-1363 or email kenneth.j.doyle@uscg.mil.

SUPPLEMENTARY INFORMATION: Notice of this meeting is in compliance with the Federal Advisory Committee Act, Title 5 United States Code Appendix. The Towing Safety Advisory Committee provides advice and recommendations to the Department of Homeland Security on matters relating to shallow-draft inland and coastal waterway navigation and towing safety.

Agenda of Meetings

On March 20 and 21, 2018, from 8 a.m. to 5 p.m., the Towing Safety Advisory Committee and its subcommittees will meet to review, discuss, deliberate, and formulate recommendations, as appropriate, on the following tasks:

• Subchapter M Implementation (Task 16-01)

• Inland Firefighting (Task 16-02)

• Towing Liquefied Natural Gas Barges (Task 16-03)

• Regulatory Reform (Task 17-01)

• Load Line Exemption Review for River Barges on Lakes Erie and Ontario (Task 17-02)

All current Towing Safety Advisory Committee tasks can be found at https://homeport.uscg.mil/Lists/Content/DispForm.aspx?&ID=574&Source=https://homeport.uscg.mil/missions/ports-and-waterways/safety-advisory-committees/tsac/recommendations-reports.

A copy of all meeting documentation, including any draft final reports, will be available at https://homeport.uscg.mil/missions/ports-and-waterways/safety-advisory-committees/tsac/announcements no later than March 13, 2018. Alternatively, you may contact Mr. Kenneth Doyle as noted in the FOR FURTHER INFORMATION CONTACT section above.

Public comments or questions will be taken throughout the meeting as the Committee discusses the issues and prior to deliberations and voting. There will also be a public comment period at the end of the meeting. Speakers are requested to limit their comments to 3 minutes. Please note that the public comment period may end before the period allotted, following the last call for comments. Please contact the individual listed in the FOR FURTHER INFORMATION CONTACT section above to register as a speaker.

Notices of Future 2018 Towing Safety Advisory Committee Meetings

To receive automatic email notices of future Towing Safety Advisory Committee meetings in 2018, go to the online docket, USCG-2018-0050 (http://www.regulations.gov/#!docketDetail;D=USCG-2018-0050), and select the Sign-up-for-Email-Alerts option. We plan to use the same docket number for all Towing Safety Advisory Committee meeting notices in 2018, so when the next meeting notice is published you will receive an email alert from http://www.regulations.gov when the notice appears in this docket, in addition to notices of other items being added to the docket.

Dated: February 13, 2018.
Jeffrey G. Lantz,
Director of Commercial Regulations and Standards.

[FR Doc. 2018-03221 Filed 2-15-18; 8:45 am]

BILLING CODE 9110-04-P